DEPARTMENT OF THE INTERIOR

Minerals Management Service

Environmental Documents Prepared for Proposed Oil and Gas Operations on the Gulf of Mexico Outer Continental Shelf (OCS)

AGENCY: Minerals Management Service, Interior.

ACTION: Notice of the availability of environmental documents; prepared for OCS Mineral Proposals on the Gulf of Mexico OCS.

SUMMARY: Minerals Management Service (MMS), in accordance with Federal regulations that implement the National Environmental Policy Act (NEPA), announces the availability of NEPA-related Site-Specific Environmental Assessments (SEA) and Findings of No Significant Impact (FONSI), for oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
Virgin Offshore U.S.A., Inc. Structure Removal SEA ES/SR 05-114, 05-115 | East Cameron, Block 2, Lease OCS-G 10605, located 5 miles from the nearest Louisiana shoreline | 7/1/2005
Bois d'Arc Offshore, LTD, Structure Removal SEA ES/SR 05-116 | Ship Shoal, Block 114, Lease OCS-00064, located 18 miles from the nearest Louisiana shoreline | 7/1/2005
Chevron U.S.A., Inc., Structure Removal SEA ES/SR 05-117, 05-118, 05-119 | South Marsh Island, Blocks 212 & 218, Lease OCS-00310, located 10 miles from the nearest Louisiana shoreline | 7/12/2005
Virgin Offshore U.S.A., Inc., Structure Removal SEA ES/SR 05-044A | West Cameron, Block 151, Lease OCS-G 17764, located 21 miles from the nearest Louisiana shoreline | 7/15/2005
Virgin Offshore U.S.A., Inc., Structure Removal SEA ES/SR 05-047A | West Cameron, Block 151, Lease OCS-G 17764, located 21 miles from the nearest Louisiana shoreline | 7/15/2005
Apache Corporation, Structure Removal SEA ES/SR 05-106 | South Marsh Island (South), Block 161, Lease OCS-G 04809, located 85 miles from the nearest Louisiana shoreline | 7/26/2005
W & T Offshore, Inc., Structure Removal SEA ES/SR 05-045 | Vermilion (South), Block 111, Lease OCS-G 06685, located 108 miles from the nearest Louisiana shoreline | 7/27/2005
Millennium Offshore Group, Structure Removal SEA ES/SR 05-124 | Main Pass, Block 216, Lease OCS-G 13971, located 52 miles from the nearest Louisiana shoreline | 7/29/2005
Forest Oil Corporation, Structure Removal SEA ES/SR 05-128, 94-11A | West Cameron, Block 172, Lease OCS-G 01998, located 25 miles from the nearest Louisiana shoreline | 7/29/2005
Millennium Offshore Group, Structure Removal SEA ES/SR 05-122 | East Cameron, Block 189, Lease OCS-G 08418, located 40 miles from the nearest Louisiana shoreline | 8/1/2005
Sterling Energy, Inc., Structure Removal SEA ES/SR 05-127 | High Island, Block A83, Lease OCS-G 07300, located 45 miles from the nearest Texas shoreline | 8/3/2005
ExxonMobil Production Company SEA P-10151 | Mobile, Block 823, Lease OCS-G, located 5.8 miles from the nearest Alabama shoreline | 8/5/2005
Anadarko E & P Company, LP, Structure Removal SEA ES/SR 05-129 | South Timbalier, Block 170, Lease OCS-G 04237, located 39 miles from the nearest Louisiana shoreline | 8/5/2005
Millennium Offshore Group, Inc., Structure Removal SEA ES/SR 05-131, 05-132 | East Cameron, Block 192, Lease OCS-G 08650, located 58 miles from the nearest Louisiana shoreline | 8/8/2005
Millennium Offshore Group, Inc., Structure Removal SEA ES/SR 05-133 | High Island, Block 128, Lease OCS-G 05009, located 30 miles from the nearest Louisiana shoreline | 8/8/2005
Millennium Offshore Group, Inc., Structure Removal SEA ES/SR 05-123 | Ship Shoal, Block 250, Lease OCS-G 19815, located 43 miles from the nearest Louisiana shoreline | 8/8/2005
BP America Production Company, Structure Removal SEA ES/SR 05-134, 93-59A, 93-61A | West Cameron, Blocks 71 & 102, Leases OCS-00244 & 00247, located 15 miles from the nearest Louisiana shoreline | 8/12/2005
Forest Oil Corporation, Structure Removal SEA ES/SR 05-125 | High Island, Block A416, Lease OCS-G 15794, located 75 miles from the nearest Texas shoreline | 8/15/2005
BP America Production Company, Structure Removal SEA ES/SR 05-135, 05-136, 05-137, 05-138 | West Cameron, Blocks 110 & 111, Leases OCS 00081 & 00082, respectively, located 16 miles from the nearest Louisiana shoreline | 8/16/2005
GOM Shelf, LLC, Structure Removal SEA ES/SR 05-109 | Main Pass (South), Block 296, Lease OCS-G 01673, located 30 miles from the nearest Louisiana shoreline | 8/26/2005

Persons interested in reviewing environmental documents for the proposals listed above or obtaining information about SEAs and FONSIs prepared for activities on the Gulf of Mexico OCS are encouraged to contact MMS at the address or telephone listed in the FOR FURTHER INFORMATION CONTACT section.

Dated: November 28, 2005.
Chris C. Oynes,
Regional Director, Gulf of Mexico OCS Region.

[FR Doc. E6-361 Filed 1-12-06; 8:45 am]

BILLING CODE 4310-MR-P